FEDERAL COMMUNICATIONS COMMISSION

Notice of Public Information Collections Being Submitted for Review to the Office of Management and Budget

April 25, 2007.

SUMMARY: The Federal Communications Commission, as part of its continuing effort to reduce paperwork burden, invites the general public and other Federal agencies to take this opportunity to comment on the following information collections, as required by the Paperwork Reduction Act of 1995 (PRA), Public Law 104-13. An agency may not conduct or sponsor a collection of information unless it displays a current valid control number. No person shall be subject to any penalty for failing to comply with a collection of information subject to the PRA that does not display a valid control number. Comments are requested concerning: (a) Whether the proposed collections of information are necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written PRA comments should be submitted on or before June 1, 2007. If you anticipate that you will be submitting comments, but find it difficult to do so within the period of time allowed by this notice, you should advise the contact listed below as soon as possible.

ADDRESSES: Direct all PRA comments to Jasmeet Seehra, Office of Mangement and Budget (OMB), Room 10236 NEOB, 725 17th Street, NW., Washington, DC 20503, or via fax at (202) 395-5167 or via Internet at Jasmeet_K._Seehra@omb.eop.gov, and to Cathy Williams, Federal Communications Commission, Room 1-C823, 445 12th Street, SW., Washington, DC 20554, or via the Internet to PRA@fcc.gov. If you would like to obtain or view a copy of this information collection, you may do so by visiting the FCC's PRA Web page at: http://www.fcc.gov/omd/pra.

FOR FURTHER INFORMATION CONTACT: For additional information or copies of the information collection(s), contact Cathy Williams at (202) 418-2918 or via the Internet at PRA@fcc.gov.

SUPPLEMENTARY INFORMATION: OMB Control Number: 3060-0463.

Title: Telecommunications Relay Services and Speech-to-Speech Services for Individuals with Hearing and Speech Disabilities, CG Docket No. 03-123.

Form Number: Not Applicable.

Type of Review: Extension of a currently approved collection.

Respondents: Business or other for-profit entities; State, local or tribal government.

Number of Respondents: 5,045.

Estimated Time per Response: 6 hours.

Frequency of Response: Recordkeeping requirement; On occasion reporting requirement; Every five years reporting requirement; Annual reporting requirement; Third party disclosure requirement.

Obligation to Respond: Required to obtain or retain benefits.

Total Annual Burden: 25,717 hours.

Total Annual Cost: None.

Nature and Extent of Confidentiality: An assurance of confidentiality is not offered because this information collection does not require the collection of personal identifiable information (PII) from individuals.

Privacy Impact Assessment: No impact(s).

Needs and Uses: The Americans with Disabilities Act of 1990 (ADA), Public Law 101-336, 104 Statute 327, 366-69, was enacted on July 26, 1990. The purpose of the ADA is to provide a clear and comprehensive national mandate to end discrimination against individuals with disabilities and to bring persons with disabilities into the economic and social mainstream of American life; to provide enforceable standards addressing discrimination against individuals with disabilities; and to ensure that the Federal government play a central role in enforcing these standards on the behalf of individuals with disabilities. Title IV of the ADA adds § 225 to the Communications Act of 1934. Section 225 of the Communications Act, requires the Commission to promulgate regulations that require all domestic telephone common carriers to provide telecommunications relay services (TRS). 47 CFR part 64, subpart F of the Commission's rules, implements certain provisions of the ADA. It contains the operational, technical, and functional standards required of all TRS providers and the procedures for state certification. Although § 225 of the Communications Act imposes on all common carriers providing interstate or intrastate telephone services an obligation to provide to hearing and speech-impaired individuals telecommunications services that enable them to communicate with hearing individuals, and charges the Commission with regulatory oversight, states may seek to establish intrastate relay services that satisfy Federal requirements.

Pursuant to 47 CFR 64.602 Commission's rules, any violation of subpart F by any common carrier engaged in intrastate communications will be subject to the same remedies, penalties, and procedures as are applicable in interstate communications.

Federal Communications Commission.
Marlene H. Dortch,
Secretary.

[FR Doc. E7-8286 Filed 5-1-07; 8:45 am]

BILLING CODE 6712-01-P